DEPARTMENT OF THE INTERIOR

Bureau of Land Management

[17XL1109AF LLUT98300 L10400000.PH0000 241A]

Notice of Establishment and Call for Nominations for the Bears Ears National Monument Advisory Committee

AGENCY: Bureau of Land Management, Interior.

ACTION: Notice.

SUMMARY: The Bureau of Land Management (BLM) is publishing this Notice in accordance with the Federal Land Policy and Management Act (FLPMA) and the Federal Advisory Committee Act (FACA). The BLM gives notice that the Secretary of the Interior is establishing the Bears Ears National Monument Advisory Committee (BENM-MAC). This Notice is also seeking nominations for individuals to be considered as BENM-MAC members.

DATES: A completed nomination form and accompanying nomination/recommendation letters must be received by October 1, 2018.

ADDRESSES: Send Nominations to Lance Porter, BLM Canyon Country District Manager, 82 Dogwood Avenue, Moab, Utah 84532, Attention: BENM-MAC Nominations.

FOR FURTHER INFORMATION CONTACT: Contact Lisa Bryant, Public Affairs Officer, Canyon Country District, 82 Dogwood Avenue, Moab, Utah 84532; phone (435) 259-2187, or email: lmbryant@blm.gov.

SUPPLEMENTARY INFORMATION: The FLPMA (43 U.S.C. 1739) directs the Secretary of the Interior to involve the public in planning and issues related to management of lands administered by BLM. Section 309 of FLPMA directs the Secretary of the Interior to establish 10-to-15-member citizen-based advisory councils that are regulated by FACA (5 U.S.C. Appendix 2). The BLM rules governing advisory committees are found at 43 CFR subpart 1784.

The BENM-MAC will provide information and advice regarding the development of the Management Plan and, as appropriate, management of the Monument to the Secretary of the Interior, through the Director of the BLM, and the Secretary of Agriculture through the Chief of the U.S. Forest Service (FS). Committee duties and responsibilities are solely advisory in nature.

The BENM-MAC will consist of 15 members to be appointed by the Secretary of the Interior and the Secretary of Agriculture as follows:

(1) An elected official from San Juan County representing the County;

(2) A representative of State government;

(3) A representative with paleontological expertise;

(4) A representative with archaeological or historic expertise;

(5) A representative of the conservation community;

(6) A representative of livestock grazing permittees within the Monument;

(7) Two representatives of Tribal interests;

(8) Two representatives of developed outdoor recreation, off-highway vehicle users, or commercial recreation activities, including for example, commercial/charter or recreation fishing;

(9) A representative of dispersed recreational activities, including, for example, hunting and shooting sports;

(10) A representative of private landowners;

(11) A representative of local business owners; and,

(12) Two representatives of the public at large, including, for example, sportsmen and sportswomen communities.

Members will be appointed to staggered 3-year terms.

Nominating Potential Members: Nomination forms may be obtained from the Canyon Country District Office, (address listed above) or https://www.blm.gov/sites/blm.gov/files/GetInvolved_RACApplication.pdf. All nominations must include a completed Resource Advisory Council application (OMB Control No. 1004-0204), letters of reference from the represented interests or organizations, and any other information that speaks to the candidate's qualifications.

The specific category the nominee would be representing should be identified in the letter of nomination and in the application form.

Members of the BENM-MAC serve without compensation. However, while away from their homes or regular places of business, BENM-MAC and subcommittee members engaged in BENM-MAC or subcommittee business may be allowed travel expenses, including per diem in lieu of subsistence, as authorized by 5 U.S.C. 5703, in the same manner as persons employed intermittently in Federal Government service.

The BENM-MAC will meet approximately two to four times annually, and at such other times as designated by the DFO.

Public Disclosure of Comments: Before including your address, phone number, email address, or other personal identifying information in your comment, you should be aware that your entire comment—including your personal identifying information—may be publicly available at any time. While you can ask us in your comment to withhold your personal identifying information from public review, we cannot guarantee that we will be able to do so.

Certification Statement: I hereby certify that the Bears Ears National Monument Advisory Committee is necessary and is in the public interest in connection with the performance of duties pursuant to the Department of the Interior's authority under Presidential Proclamation 9558, “Establishment of the Bears Ears National Monument” and Presidential Proclamation 9681, “Modifying the Bear Ears National Monument.”

Authority: 43 CFR 1784.4-1.

Ryan K. Zinke,
Secretary of the Interior.

[FR Doc. 2018-18825 Filed 8-29-18; 8:45 am]

BILLING CODE 4310-DQ-P